DEPARTMENT OF DEFENSE

Department of the Air Force

Notice of Intent To Grant an Exclusive Patent License

AGENCY: Department of the Air Force, Department of Defense.

ACTION: Notice of intent.

SUMMARY: The Department of the Air Force hereby gives notice of its intent to grant an exclusive patent license agreement to Joint Owner Florida State University Research Foundation, a non-profit, organized and in good standing with the State of Florida, having a place of business at 2000 Levy Avenue Building A., Suite 351, Tallahassee, FL 32310.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. ARW-180111A-JA in the subject line of the message.

Authority: 35 U.S.C. 209; 37 CFR 404.

FOR FURTHER INFORMATION CONTACT: Jeff Moore, Phone 937-904-5771, Air Force Materiel Command Law Office, AFMCLO/JAZ, 2240 B Street, Rm. 260, Wright-Patterson AFB, OH 45433-7109; Facsimile: (937) 255-3733; Email: afmclo.jaz.tech@us.af.mil.

SUPPLEMENTARY INFORMATION: Pursuant to the Bayh-Dole Act and implementing regulations, The Department of the Air Force intends to grant the exclusive patent license agreement for the invention described in:

—The invention disclosed and claimed in U.S. Application Serial No. 15/607,456, entitled “Polymeric Ceramic Precursors, Apparatuses Systems, and Methods” filed on May 27, 2017, and

—the invention disclosed and claimed in U.S. Application Serial No. 15/863,150, entitled “Temperature and Pressure Sensors and Methods”, filed on January 5, 2018, and

—any and all U.S. patent applications and U.S. patents based on said disclosures and patents, including all divisions, continuations, continuations-in-part (only to the extent that such claims are fully supported by another patent or application in the patent filed), and national stage applications reentering U.S. from a Patent Cooperation Treaty application having at least one INVENTOR of the AIR FORCE and at least one INVENTOR of FSURF, and reissues or extensions.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Henry Williams,
Acting Air Force Federal Register Liaison Officer.

[FR Doc. 2018-04880 Filed 3-9-18; 8:45 am]

BILLING CODE 5001-10-P